DEPARTMENT OF COMMERCE

National Oceanic and Atmospheric Administration

[RTID 0648-XA757]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet February 1, 2021 through February 12, 2021.

DATES: The Council's Scientific and Statistical Committee (SSC) will begin at 8 a.m. on Monday, February 1, 2021 and continue through Friday, February 5, 2021. The Council's Advisory Panel (AP) will begin at 8 a.m. on Monday, February 1, 2021 and continue through Friday, February 5, 2021. The Council will meet on Friday, February 5, 2021, from 8 a.m. to 5 p.m.; and from 8 a.m. to 5 p.m. on Monday, February 8, 2021 through Friday, February 12, 2021. All times listed are Alaska Standard Time.

ADDRESSES: The meetings will be by webconference. Join online through the links at https://www.npfmc.org/upcoming-council-meetings.

Council address: North Pacific Fishery Management Council, 1007 W 3rd Ave., Anchorage, AK 99501-2252; telephone: (907) 271-2809. Instructions for attending the meeting via webconference are given under Connection Information, below.

FOR FURTHER INFORMATION CONTACT: Diana Evans, Council staff; telephone: (907) 271-2809 and email: diana.evans@noaa.gov. For technical support please contact our administrative staff, email: npfmc.admin@noaa.gov.

SUPPLEMENTARY INFORMATION:

Agenda

Monday, February 1, 2021 Through Friday, February 5, 2021

The SSC agenda will include the following issues:

(1) Crab PSC Limit Reductions—Preliminary/Initial Review

(2) BSAI Crab—Norton Sound red king crab specifications, Plan Team/Workshop report

(3) Small Sablefish Release—Initial Review

(4) Marine mammal status—Review

(5) Bering Sea Fishery Ecosystem Plan: (a) FEP Team report, (b) FEP Taskforce on Climate Change workplan, (c) FEP Taskforce on Local Knowledge/Traditional Knowledge/Subsistence update, (d) Ecosystem Committee report

(6) Groundfish and Crab Economic SAFE reports—Review

(7) EFP Applications and Reports (a) Review halibut excluder application, (b) Review NBS application (T), (c) Receive report on AI pollock EFP

(8) SSC prioritization and planning

(9) SSC Workshop to review the groundfish specifications risk table

The agenda is subject to change, and the latest version will be posted at https://meetings.npfmc.org/Meeting/Details/1852 prior to the meeting, along with meeting materials.

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

Monday, February 1, 2021 Through Friday, February 5, 2021

The Advisory Panel agenda will include the following issues:

(1) Small Sablefish Release—Initial Review

(2) BSAI Pacific cod Pot Catcher Processor LLP License Endorsements—Final Action

(3) Standardized Bycatch Reporting Methodology—Initial/Final Action

(4) Crab PSC Limit Reductions—Preliminary/Initial Review

(5) BSAI Crab—Norton Sound red king crab specifications, Plan Team/Workshop report

(6) Community Engagement Committee Final Recommendations—Review

(7) EFP Applications and Reports (a) Review halibut excluder application, (b) Review NBS application (T)

(8) Bering Sea Fishery Ecosystem Plan: (a) FEP Team report, (b) FEP Taskforce on Climate Change workplan, (c) FEP Taskforce on Local Knowledge/Traditional Knowledge/Subsistence update, (d) Ecosystem Committee report

(9) Staff Tasking

Friday, February 5, 2021

The Council agenda will include the following issues. The Council may take appropriate action on any of the issues identified.

(1) All B Reports (Executive Director, NMFS Management, NOAA GC, NOAA GC, AFSC, ADF&G, USCG, USFWS, Protective Species Report)

(2) BSAI Pacific cod Pot Catcher Processor LLP License Endorsements—Final Action

(3) Standardized Bycatch Reporting Methodology—Initial/Final Action

Monday, February 8, 2021 Through Friday, February 12, 2021

The Council agenda will include the following issues. The Council may take appropriate action on any of the issues identified.

(4) AP Report

(5) IPHC Report

(6) Standardized Bycatch Reporting Methodology Continued—Initial/Final Action

(7) Community Engagement Committee Final Recommendations—Review

(8) Small Sablefish Release—Initial Review

(9) Crab PSC Limit Reductions—Preliminary/Initial Review

(10) SSC Report

(11) BSAI crab—Norton Sound red king crab specifications, Plan Team and workshop report

(12) EFP Applications and Reports (a) Review halibut excluder application, (b) Review NBS application (T)

(13) Bering Sea Fishery Ecosystem Plan (a) FEP Team report, (b) FEP Taskforce on Climate Change workplan, (c) FEP Taskforce on Local Knowledge/Traditional Knowledge/Subsistence update, (d) Ecosystem Committee report

(14) Staff Tasking

Connection Information

You can attend the meeting online using a computer, tablet, or smart phone; or by phone only. Connection information will be posted online at: https://www.npfmc.org/upcoming-council-meetings. For technical support please contact our administrative staff, email: npfmc.admin@noaa.gov.

Public Comment

Public comment letters will be accepted and should be submitted electronically through the links at https://www.npfmc.org/upcoming-council-meetings. The Council strongly encourages written public comment for this meeting, to avoid any potential for technical difficulties to compromise oral testimony. The deadline for written comments is January 29, 2021, at 5 p.m. Alaska Time.

Authority: 16 U.S.C. 1801 et seq.

Dated: January 6, 2021.
Rey Israel Marquez,
Acting Deputy Director, Office of Sustainable Fisheries, National Marine Fisheries Service.

[FR Doc. 2021-00279 Filed 1-8-21; 8:45 am]

BILLING CODE 3510-22-P